DEPARTMENT OF VETERANS AFFAIRS

Publication of Wait-Times for the Department for the Veterans Choice Program

AGENCY: Department of Veterans Affairs.

ACTION: Notice.

SUMMARY: The Veterans Access, Choice, and Accountability Act of 2014 directs the Department of Veterans Affairs (VA) to publish wait times for the scheduling of appointments in each VA facility for primary care, specialty care, and hospital care and medical services. This Federal Register Notice announces VA's publication of the wait times.

ADDRESSES: The wait-time data for all Veterans Health Administration (VHA) medical centers and clinics is available on the following Web site: http://www.va.gov/health/access-audit.asp.

FOR FURTHER INFORMATION CONTACT: Ms. Kristin J. Cunningham, Director, Business Policy (10NB6), Chief Business Office, Veterans Health Administration, 810 Vermont Avenue NW., Washington, DC 20420, Telephone: (202) 382-2508. (This is not a toll-free number.)

SUPPLEMENTARY INFORMATION: Section 206 of the Veterans Access, Choice, and Accountability Act of 2014 (Pub. L. 113-146, “the Act”) directs the Department of Veterans Affairs (VA), not later than 90 days after the date of the enactment of the Act, to publish in the Federal Register, and on a publicly-accessible Internet Web site of each VA Medical Center, the wait-times for the scheduling of an appointment in each VA facility by a veteran for the receipt of primary care, specialty care, and hospital care and medical services based on the general severity of the condition of the veteran. Whenever the wait-times for the scheduling of such an appointment change, the Secretary is also required to publish the revised wait times on a publicly-accessible Internet Web site of each VA Medical Center not later than 30 days after such change, and in the Federal Register not later than 90 days after such change.

This Federal Register Notice announces the publication of the wait-times of the Veterans Health Administration (VHA) for primary care, specialty care, and mental health care as required by section 206 of the Act. VA is working to develop an accurate method for tracking and reporting wait times for hospital care and medical services and will begin reporting that data as soon as it is available.

This data release contains a new method of reporting. The previous method calculated wait time based on the create date (the date an appointment is made) and based on the desired date for scheduling an appointment. The previous method also reported data separately for new and established patients. The current method uses the date that an appointment is deemed clinically appropriate by a VA health care provider, or if no such clinical determination has been made, the date a veteran prefers to be seen, to calculate wait times and reports the wait times for all patients combined. This is consistent with the wait-time goals of VHA published in the Federal Register on October 17, 2014. 79 FR 62519. As required by section 206, the new data is also reported for each VHA facility, down to the level of Community-Based Outpatient Clinics.

For this release, VA is publishing two reports, one that provides wait times data as of October 1 based on the previous reporting method, and one that reports the wait-times data for the same time period based on current reporting method. VA will continue to report average wait times using both methods for a period of time sufficient for veterans to become accustomed to the new reporting method.

The following is a summary of the wait times data, based on preferred appointment date, that is published at http://www.va.gov/health/access-audit.asp. This data can also be accessed from the Web sites of each VA Medical Center following the release of each update. The average wait times for primary care, specialty care, and mental health care by Veterans Integrated Service Network (VISN) are provided in the following tables:

Sample Table Wait Times by VISN: Current Method
VISN | Primary care average wait time | Specialty care average wait time | Mental health average wait time
VISN 1 | 4.60 | 5.50 | 4.30
VISN 2 | 3.24 | 7.54 | 3.82
VISN 3 | 2.39 | 4.66 | 1.94
VISN 4 | 4.24 | 8.13 | 2.67
VISN 5 | 7.83 | 6.69 | 4.14
VISN 6 | 13.49 | 8.12 | 6.83
VISN 7 | 11.29 | 7.93 | 4.89
VISN 8 | 3.75 | 7.90 | 2.53
VISN 9 | 8.04 | 4.61 | 4.12
VISN 10 | 4.60 | 6.94 | 2.77
VISN 11 | 3.67 | 4.71 | 1.99
VISN 12 | 5.32 | 7.73 | 3.67
VISN 15 | 2.59 | 5.95 | 2.51
VISN 16 | 7.52 | 7.12 | 4.37
VISN 17 | 9.72 | 5.95 | 7.16
VISN 18 | 10.98 | 10.59 | 7.50
VISN 19 | 10.28 | 8.50 | 8.33
VISN 20 | 6.18 | 7.75 | 1.91
VISN 21 | 6.71 | 9.77 | 2.78
VISN 22 | 6.66 | 9.05 | 4.78
VISN 23 | 3.94 | 5.00 | 2.35
Note: Wait Time is calculated from the veteran's preferred date or clinically appropriate date. Average wait time represents the average number of days patients are waiting for an appointment as of 10/1/2014. Primary Care is composed of three DSS Stop Codes, Specialty Care is composed of 41 DSS Stop Codes, and Mental Health is composed of 7 DSS Stop codes.

Sample Table Wait Times by VISN: Previous Reporting Method
VISN | New primary care average wait time | New specialty care average wait time | New mental health average wait time | Established patient primary care average wait time | Established patient specialty care average wait time | Established patient mental health average wait time
VISN 1 | 36.99 | 39.24 | 26.55 | 4.51 | 5.15 | 4.23
VISN 2 | 36.77 | 48.57 | 28.69 | 3.14 | 6.63 | 3.72
VISN 3 | 23.58 | 32.37 | 26.56 | 2.35 | 4.15 | 1.86
VISN 4 | 35.73 | 41.36 | 30.92 | 4.14 | 7.74 | 2.57
VISN 5 | 52.26 | 39.27 | 64.56 | 7.29 | 6.36 | 4.08
VISN 6 | 55.99 | 43.68 | 37.63 | 12.50 | 7.58 | 6.52
VISN 7 | 50.37 | 48.28 | 34.14 | 10.27 | 6.89 | 4.62
VISN 8 | 44.26 | 46.52 | 33.17 | 3.66 | 7.09 | 2.44
VISN 9 | 54.96 | 47.08 | 34.62 | 7.66 | 4.18 | 4.02
VISN 10 | 32.09 | 37.47 | 34.05 | 4.39 | 6.37 | 2.68
VISN 11 | 30.22 | 39.91 | 25.51 | 3.50 | 4.28 | 1.82
VISN 12 | 27.10 | 36.77 | 29.14 | 5.23 | 7.35 | 3.64
VISN 15 | 35.79 | 43.30 | 31.82 | 2.45 | 5.27 | 2.47
VISN 16 | 37.73 | 43.85 | 35.98 | 7.23 | 6.69 | 4.17
VISN 17 | 47.43 | 36.06 | 29.92 | 9.27 | 5.64 | 6.97
VISN 18 | 38.86 | 42.97 | 41.71 | 10.61 | 9.59 | 7.36
VISN 19 | 49.40 | 43.73 | 33.91 | 8.56 | 7.34 | 8.13
VISN 20 | 37.48 | 49.88 | 39.77 | 5.98 | 6.05 | 1.81
VISN 21 | 33.24 | 41.10 | 28.44 | 6.69 | 9.16 | 2.64
VISN 22 | 34.35 | 43.73 | 39.56 | 6.35 | 8.21 | 4.44
VISN 23 | 29.89 | 43.12 | 33.76 | 3.89 | 4.33 | 2.25
Note: Wait Time is calculated from appointment create date for new patient appointments and from appointment desired date for established patient appointments. Average wait time represents the average number of days patients are waiting for an appointment as of 10/1/2014. Primary Care is composed of three DSS Stop Codes, Specialty Care is composed of 41 DSS Stop Codes, and Mental Health is composed of 7 DSS Stop codes.

Signing Authority

The Secretary of Veterans Affairs, or designee, approved this document and authorized the undersigned to sign and submit the document to the Office of the Federal Register for publication electronically as an official document of the Department of Veterans Affairs. Jose D. Riojas, Chief of Staff, approved this document on October 30, 2014, for publication.

Dated: October 31, 2014.
William F. Russo,
Acting Director, Office of Regulation Policy & Management, Office of the General Counsel, Department of Veterans Affairs.

[FR Doc. 2014-26274 Filed 11-4-14; 8:45 am]

BILLING CODE 8320-01-P